DEPARTMENT OF ENERGY

Federal Energy Regulatory Commission

Combined Notice of Filings #1

Take notice that the Commission received the following electric corporate filings:

Docket Numbers: EC23-68-000.

Applicants: Weaver Wind, LLC, Weaver Wind Maine Master Tenant, LLC.

Description: Joint Application for Authorization Under Section 203 of the Federal Power Act of Weaver Wind, LLC, et al.

Filed Date: 3/27/23.

Accession Number: 20230327-5255.

Comment Date: 5 p.m. ET 4/17/23.

Docket Numbers: EC23-69-000.

Applicants: Chevelon Butte RE LLC.

Description: Application for Authorization Under Section 203 of the Federal Power Act of Chevelon Butte RE LLC.

Filed Date: 3/27/23.

Accession Number: 20230327-5259.

Comment Date: 5 p.m. ET 4/17/23.

Take notice that the Commission received the following exempt wholesale generator filings:

Docket Numbers: EG23-109-000.

Applicants: Stanton Battery Energy Storage LLC.

Description: Stanton Battery Energy Storage LLC submits Notice of Self-Certification of Exempt Wholesale Generator Status.

Filed Date: 3/28/23.

Accession Number: 20230328-5097.

Comment Date: 5 p.m. ET 4/18/23.

Docket Numbers: EG23-110-000.

Applicants: Santa Paula Energy Storage, LLC.

Description: Santa Paula Energy Storage, LLC submits Notice of Self-Certification of Exempt Wholesale Generator Status.

Filed Date: 3/28/23.

Accession Number: 20230328-5130.

Comment Date: 5 p.m. ET 4/18/23.

Take notice that the Commission received the following electric rate filings:

Docket Numbers: ER23-1233-001.

Applicants: ITC Midwest LLC.

Description: Tariff Amendment: Amended Concurrence IPL Amended Exhibits and Attachments (2023) to be effective 5/29/2023.

Filed Date: 3/27/23.

Accession Number: 20230327-5209.

Comment Date: 5 p.m. ET 4/17/23.

Docket Numbers: ER23-1477-000.

Applicants: Tri-State Generation and Transmission Association, Inc.

Description: § 205(d) Rate Filing: Amendment—Replacement of Rate Schedule No. 278 with Service Agreement No. 910 to be effective 2/24/2023.

Filed Date: 3/27/23.

Accession Number: 20230327-5187.

Comment Date: 5 p.m. ET 4/17/23.

Docket Numbers: ER23-1478-000.

Applicants: Tri-State Generation and Transmission Association, Inc.

Description: Tariff Amendment: Notice of Cancellation of Rate Schedule FERC No. 278 to be effective 2/24/2023.

Filed Date: 3/27/23.

Accession Number: 20230327-5188.

Comment Date: 5 p.m. ET 4/17/23.

Docket Numbers: ER23-1479-000.

Applicants: Eversource Energy Service Company (as agent), ISO New England Inc.

Description: § 205(d) Rate Filing: Eversource Energy Service Company (as agent) submits tariff filing per 35.13(a)(2)(iii: ISO-NE and CL&P; Filing of First Revised LGIA-ISONE/CLP-22-01 to be effective 2/23/2023.

Filed Date: 3/27/23.

Accession Number: 20230327-5200.

Comment Date: 5 p.m. ET 4/17/23.

Docket Numbers: ER23-1479-001.

Applicants: Eversource Energy Service Company (as agent), ISO New England Inc.

Description: Tariff Amendment: ISO New England Inc. submits tariff filing per 35.17(b): ISO-NE; Amendment of Pending Tariff Filing of First Rev. LGIA-ISO-NE/CLP-22-01 to be effective 2/23/2023.

Filed Date: 3/28/23.

Accession Number: 20230328-5057.

Comment Date: 5 p.m. ET 4/18/23.

Docket Numbers: ER23-1480-000.

Applicants: Southwest Power Pool, Inc.

Description: § 205(d) Rate Filing: Revsisions to Attachment AE Section 2.2 Regarding Requirements of Resources to be effective 6/1/2023.

Filed Date: 3/28/23.

Accession Number: 20230328-5022.

Comment Date: 5 p.m. ET 4/18/23.

Docket Numbers: ER23-1481-000.

Applicants: Public Service Company of New Hampshire.

Description: § 205(d) Rate Filing: New England Power Company—Design and Engineering Agreement to be effective3/29/2023.

Filed Date: 3/28/23.

Accession Number: 20230328-5080.

Comment Date: 5 p.m. ET 4/18/23.

Docket Numbers: ER23-1482-000.

Applicants: Midcontinent Independent System Operator, Inc.

Description: § 205(d) Rate Filing: 2023-03-28_SA 3370 ATC-Red Barn Energy 2nd Rev GIA (J855) to be effective 3/20/2023.

Filed Date: 3/28/23.

Accession Number: 20230328-5107.

Comment Date: 5 p.m. ET 4/18/23.

Docket Numbers: ER23-1483-000.

Applicants: The Connecticut Light and Power Company.

Description: Tariff Amendment: Cancellation of Study Work Agreement with NY Independent System Operator, Inc. to be effective 3/29/2023.

Filed Date: 3/28/23.

Accession Number: 20230328-5123.

Comment Date: 5 p.m. ET 4/18/23.

Docket Numbers: ER23-1484-000.

Applicants: Southwest Power Pool, Inc.

Description: § 205(d) Rate Filing: 1976R12 FreeState Electric Cooperative, Inc. NITSA and NOA to be effective3/1/2023.

Filed Date: 3/28/23.

Accession Number: 20230328-5125.

Comment Date: 5 p.m. ET 4/18/23.

Docket Numbers: ER23-1485-000.

Applicants: California Independent System Operator Corporation.

Description: § 205(d) Rate Filing: 2023-03-28 Minimum State of Charge Extension Tariff Amendment to be effective 5/28/2023.

Filed Date: 3/28/23.

Accession Number: 20230328-5126.

Comment Date: 5 p.m. ET 4/18/23.

Docket Numbers: ER23-1486-000.

Applicants: Public Service Company of Colorado.

Description: § 205(d) Rate Filing: 2023-03-28 TABGRID Info Study Amnd 1 730 to be effective 3/29/2023.

Filed Date: 3/28/23.

Accession Number: 20230328-5139.

Comment Date: 5 p.m. ET 4/18/23.

Docket Numbers: ER23-1487-000.

Applicants: ITC Interconnection LLC.

Description: Tariff Amendment: Notice of Termination of Revised Facilities Reimbursement Agreement to be effective 6/1/2023.

Filed Date: 3/28/23.

Accession Number: 20230328-5142.

Comment Date: 5 p.m. ET 4/18/23.

Docket Numbers: ER23-1488-000.

Applicants: Southwest Power Pool, Inc.

Description: § 205(d) Rate Filing: 607R44 Evergy Kansas Central, Inc. NITSA NOA to be effective 3/1/2023.

Filed Date: 3/28/23.

Accession Number: 20230328-5151.

Comment Date: 5 p.m. ET 4/18/23.

Docket Numbers: ER23-1489-000.

Applicants: Wisconsin Public Service Corporation.

Description: § 205(d) Rate Filing: Annual Formula Rate Update for PEB and PBOP Changes to be effective 4/1/2023.

Filed Date: 3/28/23.

Accession Number: 20230328-5158.

Comment Date: 5 p.m. ET 4/18/23.

Docket Numbers: ER23-1490-000.

Applicants: Duke Energy Florida, LLC.

Description: § 205(d) Rate Filing: Revised DEF Rate Schedule No. 226 to be effective 6/1/2023.

Filed Date: 3/28/23.

Accession Number: 20230328-5180.

Comment Date: 5 p.m. ET 4/18/23.

Docket Numbers: ER23-1491-000.

Applicants: Public Service Company of Colorado.

Description: § 205(d) Rate Filing: 2023-03-28 TABGRID Info Study Amnd 1 731 to be effective 3/29/2023.

Filed Date: 3/28/23.

Accession Number: 20230328-5181.

Comment Date: 5 p.m. ET 4/18/23.

Docket Numbers: ER23-1492-000.

Applicants: Santa Paula Energy Storage, LLC.

Description: Baseline eTariff Filing: Santa Paula Energy Storage, LLC MBR Tariff to be effective 5/28/2023.

Filed Date: 3/28/23.

Accession Number: 20230328-5203.

Comment Date: 5 p.m. ET 4/18/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 28, 2023.
Debbie-Anne A. Reese,
Deputy Secretary.

[FR Doc. 2023-06854 Filed 4-3-23; 8:45 am]

BILLING CODE 6717-01-P